DEPARTMENT OF TRANSPORTATION

Federal Railroad Administration

[Docket No. FRA-2023-0002-N-03]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA will seek approval of the Information Collection Request (ICR) abstracted below. Before submitting this ICR to the Office of Management and Budget (OMB) for approval, FRA is soliciting public comment on specific aspects of the activities identified in the ICR.

DATES: Interested persons are invited to submit comments on or before May 1, 2023.

ADDRESSES: Written comments and recommendations for the proposed ICR should be submitted on regulations.gov to the docket, Docket No. FRA-2023-0002. All comments received will be posted without change to the docket, including any personal information provided. Please refer to the assigned OMB control number (2130-0593) in any correspondence submitted. FRA will summarize comments received in response to this notice in a subsequent notice and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8-1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal statutes and regulations mandate. In summary, FRA reasons that comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Generic Clearance for the Collection of Qualitative Feedback on Agency Service.

OMB Control Number: 2130-0593.

Abstract: This collection of information is necessary to enable FRA to garner customer and stakeholder feedback in an efficient, timely manner, consistent with its commitment to improving service delivery. The information collected from FRA's customers and stakeholders will help ensure users have an effective, efficient, and satisfying experience with FRA's programs. This feedback will provide insights into customer and stakeholder perceptions, experiences and expectations, provide an early indicator of issues with service, and focus attention on areas where communication, training or changes in operations might improve delivery of products or services. This collection will allow ongoing, collaborative, and actionable communications between FRA and its customers and stakeholders. It also allows feedback to contribute directly to the improvement of program management. If this information is not collected, vital feedback from customers and stakeholders on FRA's services will be unavailable.

Improving FRA's programs requires ongoing assessment of service delivery. FRA will collect, analyze, and interpret information gathered through this generic clearance to identify strengths and weaknesses of current services and make improvements to service delivery based on feedback. The solicitation of feedback will target areas such as: timeliness, appropriateness, information accuracy, courtesy, service delivery efficiency, and issue resolution. FRA will assess responses in order to plan and inform efforts seeking to improve the quality of service offered to the public.

FRA will only submit a collection for approval under this generic clearance under the following conditions:

• The information gathered is only used internally for general service improvement and program management purposes and is not intended for public release;

• The information gathered is not used to substantially inform significant policy decisions;

• The information gathered will yield qualitative information; FRA will not design the collection or expect it to yield statistically reliable results or use it as though the results are generalizable to the study population;

• Participation in the collection is voluntary;

• The collection is low-burden for respondents (based on considerations of total burden hours, total number of respondents, or burden-hours per respondent) and is low-cost for both the respondents and the Federal Government;

• The collection is non-controversial and does not raise issues of concern to other Federal agencies;

• The collection is directed to the solicitation of opinions from respondents who have experience with the OMB program or may have experience with the OMB program soon after receiving the collection; and

• With the exception of information needed to provide remuneration for focus group participants and cognitive laboratory studies, personally identifiable information (PII) is collected only to the extent necessary and is not retained by FRA.

FRA increased the estimated paperwork burden by 121 hours, from 354 hours (current inventory) to 4475 hours (requesting inventory). The increased burden is due to changes in FRA's organizational structure and additional interactions with stakeholders as a result of continued implementation of the Infrastructure Investment and Jobs Act statutorily required programs.

Type of Request: Extension without change (revised estimates) of a currently approved collection.

Affected Public: Individuals and Households, Businesses and Organizations, State, Local or Tribal Governments.

Form(s): N/A.

Respondent Universe: 5,750.

Frequency of Submission: Once per request.

Reporting Burden:

CFR section | Respondent universe | Total annual responses | Average time per response (minutes) | Total annual burden hours
| (A) |  | (B) | (C = A * B)
1. Surveys, comment cards, interviews, focus groups, and web-based technologies for Customer Service Satisfaction and Delivery for the Office of the Administrator | 350 | Annual, periodically | 10 | 58.33
2. Surveys, comment cards, interviews, focus groups, and web-based technologies for Customer Service Satisfaction and Delivery for the Office of Railroad Safety | 350 | Annual, periodically | 10 | 58.33
3. Surveys, comment cards, interviews, focus groups, and web-based technologies for Customer Service Satisfaction and Delivery for the Office of Research, Data, and Innovation | 350 | Annual, periodically | 10 | 58.33
4. Surveys, comment cards, interviews, focus groups, and web-based technologies for Customer Service Satisfaction and Delivery for the Office of Railroad Development | 350 | Annual, periodically | 10 | 58.33
5. Surveys, comment cards, interviews, focus groups, and web-based technologies for Customer Service Satisfaction and Delivery for the Office of the Chief Financial Officer | 350 | Annual, periodically | 10 | 58.33
6. Web-based technologies for Customer Service Satisfaction and Delivery related to the improvement of webinar-based stakeholder engagement for the Office of Railroad Development | 3,500 | Annual, periodically | 1 | 58.33
7. Surveys, comment cards, interviews, focus groups, and web-based technologies for Customer Service Satisfaction and Delivery related to the improvement of stakeholder capacity building and training resources for the Office of Railroad Development | 500 | Annual, periodically | 15 | 125
Total ¹ | 5,750 | Annual, periodically | N/A | 475

Total Estimated Annual Responses: 5,750.

Total Estimated Annual Burden: 475 hours.

FRA informs all interested parties that it may not conduct or sponsor, and a respondent is not required to respond to, a collection of information that does not display a currently valid OMB control number.¹

¹ Totals may not add due to rounding.

Authority: 44 U.S.C. 3501-3520.

Brett A. Jortland,
Deputy Chief Counsel.

[FR Doc. 2023-04299 Filed 3-1-23; 8:45 am]

BILLING CODE 4910-06-P